DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the updated identifying information on its Specially Designated Nationals and Blocked Persons List (SDN List) for one individual whose property and interest in property subject to U.S. jurisdiction are blocked pursuant to Executive Order (E.O.) 13694, as amended by E.O. 13757.

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Action

On May 28, 2024, OFAC amended the SDN List entry of the following individual to update identifying information. The listing below reflects the individual's amended entry on the SDN List.

Individual

From

1. KOVALEVSKIJ, Nikita Gennadievitch (a.k.a. KOVALEVSKY, Nikita), Finland; DOB 21 Nov 1978; nationality Finland; Gender Male; Passport 2111702697 (individual) [CYBER2] (Linked To: OPTIMA FREIGHT OY).

To

1. KOVALEVSKIJ, Nikita Gennadievitch (a.k.a. KOVALEVSKY, Nikita; a.k.a. MURAVJOV, Nikita), Leineläntie 1 B 49, Vantaa 01340, Finland; DOB 21 Nov 1978; POB Moscow; nationality Finland; alt. nationality Russia; citizen Finland; alt. citizen Russia; Gender Male; Passport FP4892455 (Finland) issued 08 Dec 2021 expires 08 Dec 2026; alt. Passport 53 1216997 (Russia); alt. Passport FP3994119 (Finland); National ID No. 211178-2697 (Finland) issued 08 Dec 2021 expires 08 Dec 2026 (individual) [CYBER2] (Linked To: OPTIMA FREIGHT OY).

Dated: May 28, 2024.
Bradley T. Smith,
Director, Office of Foreign Assets Control, U.S. Department of the Treasury.

[FR Doc. 2024-12026 Filed 5-31-24; 8:45 am]

BILLING CODE 4810-AL-P